DEPARTMENT OF HEALTH AND HUMAN SERVICES

Centers for Disease Control and Prevention

[30Day-11-0768]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

The Outcome Evaluation of the CDC National Prevention Information Network (NPIN, formerly known as the National AIDS Clearinghouse, OMB No. 0920-0768) -— Revision—National Center for HIV/AIDS, Viral Hepatitis, STD, and TB Prevention (NCHHSTP), Centers for Disease Control and Prevention (CDC).

Background and Brief Description

NCHHSTP has the primary responsibility within the CDC and the U.S. Public Health Service for the prevention and control of HIV infection, viral hepatitis, sexually transmitted diseases (STDs), and tuberculosis (TB), as well as for community-based HIV prevention activities, syphilis, and TB elimination programs. NPIN serves as the U.S. reference, referral, and distribution service for information on HIV/AIDS, viral hepatitis, STDs, and TB, supporting NCHHSTP's mission to link Americans to prevention, education, and care services. NPIN is a critical member of the network of government agencies, community organizations, businesses, health professionals, educators, and human services providers that educate the American public about the grave threat to public health posed by HIV/AIDS, viral hepatitis, STDs, and TB. NPIN provides the most comprehensive listing of HIV/AIDS, viral hepatitis, STD, and TB resources and services for prevention partners and the American public throughout the country and makes it available on the NPIN Web site. More than 29 million hits to the Web site are recorded annually.

To accomplish CDC's goal of consistently improving NPIN's Web site, and NPIN's other products and services, and meet the ever-growing needs of the prevention professionals, prevention partners, and the general public, it is necessary to collect feedback from visitors to the NPIN Web site and the users of NPIN's products and services on a on-going basis. Every effort has been made to minimize the burden on prevention professionals and the general public.

Evaluation Method and Recruitment

The evaluation will be accomplished by survey data collection from two groups—users of the NPIN Web site and users of NPIN products and services. Respondents for each survey will include representatives from government agencies, community-based organizations, advocacy organizations, various other organizations involved in the prevention and/or treatment of HIV/AIDS, STDs, TB, and/or viral hepatitis, and the general public. The NPIN Web site user survey will be conducted on an ongoing basis via the Web site and a blast e-mail reminder will be sent out annually. The NPIN products and services user survey will be conducted on a bi-annual basis with a blast email sent out every 6 months. When appropriate, NPIN will distribute the surveys at conferences and via social networks. Some of the NPIN Web site user surveys and the NPIN products and services surveys will be conducted over the phone as needed, which will be kept to an absolute minimum.

The information collected from the surveys is not intended to provide statistical data for publication. The purpose of this activity is solely to obtain user feedback that will help identify opportunities to improve the services and products provided to the public by NPIN and to ultimately allow NPIN to fulfill its mission.

Collecting the information described in this package allows NPIN to:

• Acquire accurate, up-to-date information from users of the NPIN Web site, and other products and services on a regular basis and in a timely manner.

• Identify the service needs of NPIN users and implement new features to meet those needs.

• Identify the strengths and weaknesses of the NPIN Web site, and others products and services.

• Collect data using a consistent format.

• Comply with requirements under the Public Health Service Act, Executive Order 12862, and GPRA.

• Provide the highest quality products and services to NPIN users.

Without this information collection, CDC will be hampered in successfully carrying out its mission of providing quality products and services to populations served. Failure to continue with our data collection effort would compromise efforts to meet the legislative requirement of being as responsive as possible to the public who consistently seek information about the prevention and treatment of HIV/AIDS, STDS, TB, and viral hepatitis. Moreover, it would diminish NPIN's value to the public in terms of usability and credibility as a comprehensive Federal information and education resource. The total estimated annualized burden hours are 342.

Estimated Annualized Burden Hours
Type of respondent | Form name | Number of respondents | Responses per respondent | Average burden per response (in hours)
NPIN Web Site User | NPIN Web site User Survey | 500 | 1 | 15/60
NPIN Products and Services User | NPIN Products and Services User Survey | 500 | 2 | 13/60

Dated: January 20, 2011.
Carol E. Walker,
Acting Reports Clearance Officer, Centers for Disease Control and Prevention.

[FR Doc. 2011-1742 Filed 1-26-11; 8:45 am]

BILLING CODE 4163-18-P